DEPARTMENT OF ENERGY

Basic Energy Sciences Advisory Committee

AGENCY: Office of Science, Department of Energy.

ACTION: Notice of open meeting.

SUMMARY: This notice announces a virtual open meeting of the Basic Energy Sciences advisory Committee (BESAC). The Federal Advisory Committee Act requires that public notice of these meetings be announced in the Federal Register.

DATES: Thursday, July 14, 2022; 11:00 a.m. to 5:00 p.m.

ADDRESSES: This meeting is open to the public. This meeting will be held digitally via Zoom. Information to participate can be found on the website closer to the meeting date at https://science.osti.gov/bes/besac/Meetings.

FOR FURTHER INFORMATION CONTACT: Kerry Hochberger; Office of Basic Energy Sciences; U.S. Department of Energy; Germantown Building, 1000 Independence Avenue SW, Washington, DC 20585; Telephone: (301) 903-7661 or Email: kerry.hochberger@science.doe.gov.

SUPPLEMENTARY INFORMATION: Purpose of the Board: The purpose of this Board is to make recommendations to DOE-SC with respect to the basic energy sciences research program.

Tentative Agenda:

• Call to Order, Introductions, Review of the Agenda

• News from the Office of Science

• News from the Office of Basic Energy Sciences

• Panel Discussion: BES Early Career

• News on the Energy Earth Shot Initiative

• Panel Discussion: Operando Science and Instrumentation

• Public Comments

• Adjourn

Breaks taken as appropriate.

Public Participation: The meeting is open to the public. A webcast of this meeting will be available. Please check the website below for updates and information on how to view the meeting. If you would like to file a written statement with the Committee, you may do so either before or after the meeting. If you would like to make oral statements regarding any of the items on the agenda, you should contact Kerry Hochberger at kerry.hochberger@science.doe.gov. You must make your request for an oral statement at least five business days before the meeting. Reasonable provisions will be made to include the scheduled oral statements on the agenda. The Chairperson of the Committee will conduct the meeting to facilitate the orderly conduct of business. Public comment will follow the 10-minute rule. Information about the committee can be found at: https://science.osti.gov/bes/besac.

Minutes: The minutes of this meeting will be available for public review on the U.S. Department of Energy's Office of Basic Energy Sciences website at: https://science.osti.gov/bes/besac/Meetings.

Signed in Washington, DC, on June 22, 2022.
LaTanya Butler,
Deputy Committee Management Officer.

[FR Doc. 2022-13693 Filed 6-27-22; 8:45 am]

BILLING CODE 6450-01-P